ENVIRONMENTAL PROTECTION AGENCY

[ER-FRL-6624-7]

Environmental Impact Statements; Notice of Availability

RESPONSIBLE AGENCY: Office of Federal Activities, General Information (202) 564-7167 or www.epa.gov/oeca/ofa.

Weekly receipt of Environmental Impact Statements

Filed December 10, 2001

Through December 14, 2001

Pursuant to 40 CFR 1506.9.

EIS No. 010523, Draft EIS, FRC, MI, WI, Bond Falls Project, Issuing a New License for Existing Hydroelectric License, (FERC No. 1864-005) Ontonagon River Basin, Ontonagon and Gogebic Counties, MI and Vilas County, WI, Comment Period Ends: February 04, 2002, Contact: Patrick Murphy (202) 219-2659.

EIS No. 010524, Final EIS, FHW, NM, New Mexico Highway 126 (NM-126), Cuba-La Cueva Road (also Known as Forest Highway 12) Improvement, COE Section 404 Permit and NPDES Permit, Sandoval and Rio Arriba Counties, NM, Wait Period Ends: January 22, 2002, Contact: Richard J. Cushing (303) 969-5910.

EIS No. 010525, Revised Draft EIS, COE, MO, ND, SD, NB, IA, KS, Missouri River Master Water Control Manual Review and Update, Mainstem Reservoir System, New and Updated Information, Missouri River Basin, SD, NB, IA and MO, Comment Period Ends: February 04, 2002, Contact: Rose Hargrave (402) 697-2527.

EIS No. 0526, Final EIS, BLM, NV, Falcon to Gonder 345kV Transmission Project, Construction, Resource Management Plan Amendments, Right-of-Way Grant, Lander, Elko, Eureka and White Pine Counties, NV, Wait Period Ends: January 22, 2002, Contact: Mary Craggett (775) 635-4060.

EIS No. 010527, Final EIS, FTA, CT, New Britain—Hartford Busway Project, Proposal to Build an Exclusive Bus Rapid Transit (BRT) Facility, Located in the Towns/Cities of New Britain, Newington, West Hartford and Hartford CT, Wait Period Ends: January 22, 2002, Contact: Richard H. Doyle (617) 494-2055.

EIS No. 010528, Draft EIS, AFS, MO, Oak Decline and Forest Health Project, To Improve Forest Health, Treat Affected Stands, Recover Valuable Timber Products, Promote Public Safety, Potosi and Salem Ranger Districts, Mark Twain National Forest, Crawford, Dent, Iron, Reynolds, Shannon and Washington, MO, Comment Period Ends: February 04, 2002, Contact: Karen Mobley (573) 729-6656.

EIS No. 010529, Final EIS, FHW, WV, Shawnee Highway Project, Construction between the Ghent Interchange of I-787 in the North and McDowell County 14 or McDowell County 17 in the South, Funding, McDowell, Raleigh and Wyoming Counties, WV, Wait Period Ends: January 22, 2002, Contact: Thomas J. Smith (304) 347-5928.

EIS No. 010530, Final EIS, FRC, NY, Eastchester Project, Natural Gas Pipeline and Associated Facilities, (Docket Nos. CP00-232-001) Construction, Operation and Maintenance, from Northport Long Island to the Bronx, Approval and US Army COE Section 10 and 404 Permits Issuance, Bronx Borough, NY, Wait Period Ends: February 04, 2002, Contact: John Schnagl (202) 219-2661. This document is available on the Internet at: http://rimsweb1.ferc.fed.us

EIS No. 010531, Draft EIS, UAF, CA, EL Rancho Road Bridge Project, To Provide a Flood-Free Crossing at San Antonia Creek to Access North Vandenberg Air Force Base, Santa Barbara County, CA, Comment Period Ends: February 04, 2002, Contact: Jack Bush (703) 604-0553.

Amended Notices

EIS No. 010357, Draft EIS, SFW, Light Goose Management Plan, Implementation, Reducing and Stabilizing Specific Populations “Light Geese” in North America, Comment Period Ends: January 25, 2002, Contact: Jon Andrew (703) 358-1714. Revision of FR Notice Published on 09/28/2001: CEQ Review Period Ending on 12/14/2001 has been Extended to 01/25/2002.

EIS No. 010368, Final Supplement, JUS, Cannabis Eradication in the Contiguous United States and Hawaii, Updated Information concerning New Scientific Data on Herbicidal Eradication , Wait Period Ends: January 28, 2002, Contact: Joyce M. Elliott (202) 307-8923. Published FR -10-05-01 Review Period Reopened.

EIS No. 010401, Draft Supplement, FHW, MI, US-31 Petoskey Area Improvement Study, To Reduce Congestion on US-31 in the City of Petoskey and Resort and Bear Creek Townships, COE Section 404 Permit, Emmet County, MI , Comment Period Ends: February 28, 2001, Contact: James A. Kirschensteiner (517) 702-1835

.

Revision of FR Notice Published on 11/02/2001: CEQ. Comment Period Ending 12/17/2001 has been Extended to 02/28/2002.

Dated: December 18, 2001.
Joseph C. Montgomery,
Director, NEPA Compliance Division, Office of Federal Activities.

[FR Doc. 01-31537 Filed 12-20-01; 8:45 am]

BILLING CODE 6560-50-P